DEPARTMENT OF HEALTH AND HUMAN SERVICES

Centers for Disease Control and Prevention

Notice of Closed Meeting

In accordance with Section 10(a)(2) of the Federal Advisory Committee Act (Pub. L. 92-463), the Centers for Disease Control and Prevention (CDC) announces the following meeting.

The meeting will be closed to the public in accordance with provisions set forth in Section 552b(c)(4) and (6), Title 5 U.S.C., and the Determination of the Director, Management Analysis and Services Office, CDC, pursuant to Public Law 92-463.

Name of Committee: Disease, Disability, and Injury Prevention and Control Special Emphasis Panel (SEP)—PAR 13-129, NIOSH Member Conflict Special Emphasis Panel.

Date: October 25, 2017.

Time: 1:00 p.m.-5:00 p.m., EDT.

Place: Teleconference.

Agenda: The meeting will include the initial review, discussion, and evaluation of applications received in response to PAR 13-129, NIOSH Member Conflict Special Emphasis Panel.

For FuRther Information Contact: Nina Turner, Ph.D. Scientific Review Officer, CDC, 1095 Willowdale Road, Morgantown, West Virginia 26506, (304) 285-5976, nxt2@cdc.gov.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-19499 Filed 9-13-17; 8:45 am]

BILLING CODE 4163-18-P